DEPARTMENT OF ENERGY

Federal Energy Regulatory Commission

Combined Notice of Filings #1

Take notice that the Commission received the following electric rate filings:

Docket Numbers: ER19-1074-020; ER10-1427-014; ER19-1075-020; ER19-529-020; ER16-2527-007; ER12-1504-010; ER22-192-012; ER17-2-008; ER20-1487-006; ER12-1502-010; ER14-25-024; ER23-1889-002.

Applicants: Sweetland Wind Farm, LLC, Prairie Breeze Wind Energy LLC, Ironwood Windpower, LLC, Frontier Windpower II, LLC, Frontier Windpower, LLC, Evolugen Trading and Marketing LP, Cimarron Windpower II, LLC, Caprock Solar I LLC, Brookfield Renewable Trading and Marketing LP, Brookfield Renewable Energy Marketing US LLC, Brookfield Energy Marketing LP, Brookfield Energy Marketing Inc.

Description: Triennial Market Power Analysis for Southwest Power Pool Inc. Region of Brookfield Energy Marketing Inc., et al.

Filed Date: 12/31/24.

Accession Number: 20241231-5470.

Comment Date: 5 p.m. ET 3/3/25.

Docket Numbers: ER25-865-000.

Applicants: PJM Interconnection, L.L.C.

Description: § 205(d) Rate Filing: Original NSA Service Agreement No. 7476; Queue No. AA1-145 to be effective 3/7/2025.

Filed Date: 1/6/25.

Accession Number: 20250106-5202.

Comment Date: 5 p.m. ET 1/27/25.

Docket Numbers: ER25-866-000.

Applicants: New England Power Company.

Description: § 205(d) Rate Filing: NGRD Req for Order re: Full Abandonment Cost Recovery & Req for CEII Treatment to be effective 3/8/2025.

Filed Date: 1/6/25.

Accession Number: 20250106-5203.

Comment Date: 5 p.m. ET 1/27/25.

Docket Numbers: ER25-867-000.

Applicants: Midcontinent Independent System Operator, Inc.

Description: § 205(d) Rate Filing: 2025-01-07_SA 3489 Duke-Speedway Solar 3rd Rev GIA (J805) to be effective 1/2/2025.

Filed Date: 1/7/25.

Accession Number: 20250107-5020.

Comment Date: 5 p.m. ET 1/28/25.

Docket Numbers: ER25-868-000.

Applicants: Michigan Electric Transmission Company, LLC.

Description: § 205(d) Rate Filing: 2025-01-07_SA 1926 METC-CE 11th Rev DTIA to be effective 1/1/2025.

Filed Date: 1/7/25.

Accession Number: 20250107-5024.

Comment Date: 5 p.m. ET 1/28/25.

Docket Numbers: ER25-869-000.

Applicants: The Connecticut Light and Power Company.

Description: Tariff Amendment: Cancel- BPUS Generation Development LLC—Engineering and Test Agreement to be effective 1/8/2025.

Filed Date: 1/7/25.

Accession Number: 20250107-5040.

Comment Date: 5 p.m. ET 1/28/25.

Docket Numbers: ER25-870-000.

Applicants: The Connecticut Light and Power Company.

Description: Tariff Amendment: Cancel—BPUS Generation Development LLC—Engineering and Design Agreement to be effective 1/8/2025.

Filed Date: 1/7/25.

Accession Number: 20250107-5051.

Comment Date: 5 p.m. ET 1/28/25.

Docket Numbers: ER25-871-000.

Applicants: Midcontinent Independent System Operator, Inc.

Description: § 205(d) Rate Filing: 2025-01-07_SA 3258 Big Rivers Electric-Clover Creek Solar 2nd Rev GIA (J753) to be effective 12/30/2024.

Filed Date: 1/7/25.

Accession Number: 20250107-5080.

Comment Date: 5 p.m. ET 1/28/25.

Docket Numbers: ER25-872-000.

Applicants: American Transmission Company LLC.

Description: § 205(d) Rate Filing: 2025-01-07_SA 4425 ATC-Baraga DTIA to be effective 1/8/2025.

Filed Date: 1/7/25.

Accession Number: 20250107-5090.

Comment Date: 5 p.m. ET 1/28/25.

Docket Numbers: ER25-873-000.

Applicants: Consumers Energy Company.

Description: § 205(d) Rate Filing: WDS Service Agreement with Alpena Power Company to be effective 1/1/2025.

Filed Date: 1/7/25.

Accession Number: 20250107-5126.

Comment Date: 5 p.m. ET 1/28/25.

Docket Numbers: ER25-874-000.

Applicants: PJM Interconnection, L.L.C.

Description: Tariff Amendment: Notice of Cancellation of ISA, SA No. 7125; AE2-195 re: Withdrawal to be effective 3/9/2025.

Filed Date: 1/7/25.

Accession Number: 20250107-5140.

Comment Date: 5 p.m. ET 1/28/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 7, 2025.
Carlos D. Clay,
Acting Deputy Secretary.

[FR Doc. 2025-00579 Filed 1-13-25; 8:45 am]

BILLING CODE 6717-01-P